DEPARTMENT OF ENERGY

Federal Energy Regulatory Commission

[Docket No. AD19-19-000]

Grid-Enhancing Technologies; Supplemental Notice of Workshop

As announced in the Notice of Workshop issued on September 9, 2019, the Federal Energy Regulatory Commission (Commission) will convene a staff-led workshop in the above-referenced proceeding on Tuesday, November 5, 2019, from approximately 9:30 a.m. to 4:00 p.m., and Wednesday, November 6, 2019, from approximately 9:00 a.m. to 12:45 p.m. (Eastern Time). The workshop will be held at Commission headquarters, 888 First Street NE, Washington, DC 20426. The Chairman and Commissioners may attend and participate.

The purpose of this workshop is to discuss grid-enhancing technologies that increase the capacity, efficiency, or reliability of transmission facilities. Panelists and staff will discuss how grid-enhancing technologies are currently used in transmission planning and operations, the challenges to their deployment and implementation, and what the Commission can do regarding those challenges, including regulatory approaches such as incentives or requirements for the adoption of grid-enhancing technologies. These technologies include, but are not limited to: (1) Power flow control and transmission switching equipment; (2) storage technologies; and (3) advanced line rating management technologies. There will be an opportunity to submit written comments after the workshop. A notice setting the date when comments are due will be issued after the workshop.

The agenda and a list of participants for this workshop is attached. The workshop will be open for the public to attend in person, or to attend remotely via webcast. In-person attendees are encouraged to register on-line at: http://www.ferc.gov/whats-new/registration/11-06-19-form.asp. In-person attendees should allow time to pass through building security procedures before start time of the workshop. Although there is no registration deadline for in-person attendees, we strongly encourage attendees to register for the workshop as soon as possible, in order to avoid any delay associated with being processed by FERC security. Those who plan to attend the conference remotely via webcast must register by 5:00 p.m. Eastern Time on October 29, 2019. The webcast may not be available to those who do not register.

Information on the workshop (including a link to the webcast) will be posted on the Calendar of Events on the Commission's website, http://www.ferc.gov. The Capitol Connection provides technical support for the webcasts and offers the option of listening to the conference via phone-bridge for a fee. For additional information, visit www.CapitolConnection.org or call 703-993-3100. The workshop will be transcribed. Transcripts will be available for a fee from Ace Reporting (202-347-3700).

Commission conferences are accessible under section 508 of the Rehabilitation Act of 1973. For accessibility accommodations please send an email to accessibility@ferc.gov or call toll free (866) 208-3372 (voice) or (202) 502-8659 (TTY), or send a fax to (202) 208-2106 with the requested accommodations.

For more information about this workshop, please contact:

Sarah McKinley (Logistical Information), Office of External Affairs, (202) 502-8368, Sarah.Mckinley@ferc.gov

Samin Peirovi (Technical Information), Office of Energy Policy and Innovation, (202) 502-8080, Samin.Peirovi@ferc.gov

Dated: October 11, 2019.
Nathaniel J. Davis, Sr.,
Deputy Secretary.

[FR Doc. 2019-22786 Filed 10-17-19; 8:45 am]

BILLING CODE 6717-01-P